COMMITTEE FOR PURCHASE FROM PEOPLE WHO ARE BLIND OR SEVERELY DISABLED

Clarification of Scope of Procurement List Additions; 2007 Commodities Procurement List Addition; Comment Request

AGENCY: Committee for Purchase From People Who are Blind or Severely Disabled.

ACTION: Clarification of scope of the procurement preference and sourcing requirements for commodities and other products on the Procurement List; additions to Procurement List.

SUMMARY: The Committee for Purchase From People Who are Blind or Severely Disabled (the Committee) is clarifying the scope of the procurement preference and sourcing requirements for commodities and other products on the Procurement List and providing notice of those which are proposed to be identified as satisfying Governmentwide requirements and thus subject to governmentwide procurement preference for calendar year 2007. The full list of these products and commodities, identified by National Stock Number (NSN), noun name is listed in this Notice and may also be found on the Committee's Web site at http://www.jwod.gov. Comments are solicited regarding the entire list and/or specific commodities as identified by NSN.

DATES: Interested persons are invited to submit comments on or before June 9, 2006.

ADDRESSES: Committee for Purchase From People Who are Blind or Severely Disabled, Jefferson Plaza 2, Suite 10800, 1421 Jefferson Davis Highway, Arlington, Virginia, 22202-3259.

For Further Information or to Submit Comments Contact: Kimberly M. Zeich, Telephone: (703) 603-7740, Fax: (703) 603-0655, or e-mail Alist2007@jwod.gov.

SUPPLEMENTARY INFORMATION: This notice is published pursuant to 41 U.S.C. 47(a)(2) and 41 CFR 51-2.3. Its purpose is to provide interested parties an opportunity to submit comments on the proposed actions.

The decentralized nature of today's Federal acquisition environment requires the Committee to more specifically consider and communicate the applicability of each Procurement List addition, depending on the type of product and scope of the associated requiring/contracting activities. There are effectively three categories of products furnished under the auspices of the Javits-Wagner-O'Day (JWOD) Program, each with a different level of procurement source preference.

The first category (the A List) contains commodity-type products that are commonly used in office and light industrial settings. These products, when furnished by the JWOD Program, are widely available through multiple Government and commercial distribution channels, and are delivered to customers in timeframes consistent with industry best practices. For most office supplies, this means on a next-day or two-day basis. For oversize office products (e.g., chair mats), or janitorial/sanitary products, delivery times may be three to five days after receipt of order. All such products meet the broad preference requirements of the JWOD Act and must be purchased by Federal employees whenever they will meet customer needs and will be available within required timeframes. JWOD-authorized commercial distributors must stock the items, obtain them from wholesalers or, to the extent permitted, coordinate nonprofit agency shipments, to make A-List items available for quick delivery. The commercial equivalents to these products, as determined by the Committee, are identified to the Government and commercial distribution channels, and are excluded from contract sales to Federal employees in accordance with the Committee's regulations at 41 CFR 51-5.3(a). If a Federal customer orders an equivalent item, JWOD-authorized distributors will substitute and deliver the corresponding A List product instead. Examples of A List products include writing instruments, paper pads, desktop accessories, general purpose cleaner in retail-sized bottles, and disposable breakroom supplies.

The second category (the B List) contains more specialized or niche products that are most often designed and manufactured to meet the needs of a single Federal agency, or a group of customers with a unique requirement. These products, when furnished under the JWOD Program, are typically sponsored by and have procurement preference for the specific Federal agency which defined the requirement. The JWOD procurement preference does not apply to Federal agencies that are not identified on the Procurement List documentation for such items. However, their placement on the Committee's Procurement List affords such products sole source purchasing availability to other Federal agencies that may choose to use those products. Commercial products that are equivalent to B List items are not prohibited on Government contracts or Schedule awards. An example of a B List product is latex examination gloves added to the Procurement List for the specific requirements of the Transportation Security Administration, but available to other Federal agencies who may purchase similar gloves.

The third category (the R List) contains restricted products, which are manufactured under the JWOD Program for one or a few very specific military or civilian agency requirements, and are only made available to Federal customers through the distribution channels authorized by the requiring office. Products on the R List are not intended to fulfill a broad Government requirement, and are not commodities. Due to these restrictions, these products will not be offered in general distribution channels. Examples of R List products include chemical protective suits furnished to the Department of Defense and tree-marking paint manufactured for the U.S. Forest Service.

In the future, when proposing to add a product to its Procurement List, the Committee notices published in the Federal Register will identify the category group (A List, B List or R List) to which the product has been assigned, and thus identify the scope of the JWOD procurement preference.

In accordance with clarification of the scope of A List products provided above, the Committee is proposing to designate the following products as the A List for calendar year 2007. Consistent with the provisions of 41 CFR 51-5.3(c), this action does not affect current contracts awarded prior to the effective date for the approved 2007 A List date or options that may be exercised under those contracts.

The proposed 2007 A List is divided into three sections:

1. Products currently on the Procurement List that were on the A List for 2006, and are proposed to carry over onto the 2007 A List;

Nonprofit Agency: NIB Alabama Industries for the Blind, Talladega, AL

Noun Name: Notebook, Stenographer's.

NSN: 7530-00-223-7939.

Noun Name: Pad, Writing Paper.

NSN: 7530-01-124-5660.

Noun Name: Pad, Writing Paper (Easel).

NSN: 7530-01-398-2661.

NSN:7530-00-619-8880.

Noun Name: Pad, Writing Paper, Chlorine-Free.

NSN: 7530-01-516-9629.

NSN: 7530-01-516-9627.

NSN: 7530-01-516-9626.

Noun Name: Skilcraft Toner Cartridge.

NSN: 7510-00-NIB-0644.

NSN: 7510-00-NIB-0633.

NSN: 7510-00-NIB-0641.

NSN: 7510-00-NIB-0642.

Noun Name: Toner, Cartridges, New.

NSN: 7510-01-443-2121.

Nonprofit Agency: NIB Alphapointe Association for the Blind, Kansas City, MO

Noun Name: Ballpoint Pen, Stick, Rubberized Barrel.

NSN: 7520-01-357-6841.

NSN: 7520-01-357-6842.

NSN: 7520-01-357-6843.

NSN: 7520-01-357-6844.

Noun Name: Ballpoint Pen, Stick-type.

NSN: 7520-01-058-9978.

NSN: 7520-01-058-9977.

NSN: 7520-01-060-5820.

NSN: 7520-01-060-5821.

NSN: 7520-01-060-8513.

NSN: 7520-01-059-4125.

Noun Name: Bottle, Applicator.

NSN: 8125-00-488-7952.

Noun Name: Pen, Chain with Holder and Adhesive Base.

NSN: 7520-01-463-1990.

Noun Name: Pen, Cushion Grip, Transparent.

NSN: 7520-01-424-4884.

NSN: 7520-01-424-4866.

NSN: 7520-01-424-4875.

NSN: 7520-01-424-4872.

Noun Name: Pen, Gel.

NSN: 7520-01-484-5250.

NSN: 7520-01-484-5252.

NSN: 7520-01-484-5253.

Noun Name: Pen, Non-retractable, Gel Ink, “Alpha Elite”.

NSN: 7520-01-500-5214.

NSN: 7520-01-500-5213.

NSN: 7520-01-500-5212.

Noun Name: Pencil, Mechanical.

NSN: 7520-00-223-6672.

Noun Name: Round Ball Stick Pen, “Alpha Basic”.

NSN: 7520-01-484-5267.

Nonprofit Agency: NIB Arizona Industries for the Blind, Phoenix, AZ

Noun Name: Mophead, Wet.

NSN: 7920-00-141-5547.

NSN: 7920-00-205-0425.

NSN: 7920-00-205-0426.

Noun Name: Paper, Tabulating Machine.

NSN: 7530-00-NIB-0321.

NSN: 7530-00-800-0996.

Nonprofit Agency: NIB Association for the Blind & Visually Impaired & Goodwill Industries of Greater Rochester, Rochester, NY

Noun Name: Pad, Easel, Postable.

NSN: 7530-01-393-0104.

Noun Name: Pad, Writing Paper (Repositionable).

NSN: 7530-01-418-1420.

NSN: 7530-01-116-7865.

NSN: 7530-01-116-7866.

NSN: 7530-01-116-7867.

NSN: 7530-01-207-4356.

NSN: 7530-01-273-3755.

NSN: 7530-01-398-2660.

NSN: 7530-01-418-1281.

NSN: 7530-01-456-0684.

NSN: 7530-01-418-1212.

NSN: 7530-01-456-2249.

NSN: 7530-01-456-0683.

Nonprofit Agency: NIB Association for Vision Rehabilitation and Employment, Inc., Binghamton, NY

Noun Name: Folder Set, File.

NSN: 7530-00-282-2508.

NSN: 7530-00-282-2507.

NSN: 7530-00-281-5945.

NSN: 7530-00-281-5941.

Noun Name: Folder, File.

NSN: 7530-00-291-0098.

NSN: 7530-00-285-1732.

Noun Name: Folder, File, Manila.

NSN: 7530-01-455-6059.

NSN: 7530-01-455-6093.

Noun Name: Paper, Tabulating Machine.

NSN: 7530-00-800-0996.

NSN: 7530-00-NIB-0321.

Nonprofit Agency: NIB Beacon Lighthouse, Inc., Wichita Falls, TX

Noun Name: Pad, Scouring.

NSN: 7920-01-499-1617.

NSN: 7920-00-753-5242.

Nonprofit Agency: NIB Blind Industries & Services of Maryland, Baltimore, MD

Noun Name: Board, Wall Calendar.

NSN: 7510-00-789-2455.

Noun Name: Kit, Employee Start Up.

NSN: 7520-01-493-6006.

Noun Name: Pad, Writing Paper.

NSN: 7530-00-239-8479.

NSN: 7530-01-372-3109.

NSN: 7530-00-285-3090.

NSN: 7530-01-124-5660.

NSN: 7530-01-124-7632.

NSN: 7530-01-372-3108.

NSN: 7530-01-447-1353.

NSN: 7530-01-447-1355.

NSN: 7530-01-516-7573.

NSN: 7530-01-516-7574.

NSN: 7530-01-516-7578.

NSN: 7530-01-516-7581.

NSN: 7530-01-372-3107.

Noun Name: Pad, Writing Paper (Easel).

NSN: 7530-01-398-2661.

NSN: 7530-00-619-8880.

Noun Name: Pad, Writing Paper, Chlorine-Free.

NSN: 7530-01-516-9627.

NSN: 7530-01-516-9626.

NSN: 7530-01-516-9629.

Nonprofit Agency: NISH Cattaraugus County Chapter, NYSARC, Olean, NY

Noun Name: Inking Pad.

NSN: 7510-01-435-9775.

NSN: 7510-01-435-9776.

Noun Name: Inking Pad, Rubber Stamp.

NSN: 7510-01-431-6521.

NSN: 7510-00-224-7676.

Nonprofit Agency: NIB Central Association for the Blind & Visually Impaired, Utica, NY

Noun Name: Flashlight.

NSN: 6230-01-513-2663.

NSN: 6230-01-513-3306.

Noun Name: Folder Set, File.

NSN: 7530-00-282-2508.

NSN: 7530-00-282-2507.

NSN: 7530-00-281-5945.

NSN: 7530-00-281-5941.

Noun Name: Folder, File.

NSN: 7530-00-285-1732.

NSN: 7530-00-291-0098.

Noun Name: Pencil, Fine-Line Writing.

NSN: 7510-00-286-5755.

Noun Name: Pencil, General Writing.

NSN: 7510-00-281-5234.

Nonprofit Agency: NISH Charleston Vocational Rehabilitation Center, Charleston Heights, SC

Noun Name: Ribbon, Lift-Off Dry.

NSN: 7510-01-219-5753.

Nonprofit Agency: NIB Cincinnati Association for the Blind, Cincinnati, OH

Noun Name: Tape, Duct.

NSN: 5640-00-103-2254.

Noun Name: Tape, Paper, Computing Machine.

NSN: 7530-00-222-3455.

Noun Name: Tape, Pressure-Sensitive.

NSN: 7510-00-680-2471.

NSN: 7510-00-680-2395.

Noun Name: Tape, Pressure-Sensitive Adhesive.

NSN: 7510-00-582-4772.

NSN: 7510-00-685-4963.

NSN: 7510-00-159-4450.

NSN: 7510-00-297-6655.

Nonprofit Agency: NISH Cooperative Workshops, Inc., Sedalia, MO

Noun Name: Kit, First Aid.

NSN: 6545-01-433-8399.

Nonprofit Agency: NISH CW Resources, Inc., New Britain, CT

Noun Name: Clip, Binder.

NSN: 7510-00-285-5995.

NSN: 7510-00-223-6807.

NSN: 7510-00-282-8201.

Nonprofit Agency: NIB Dallas Lighthouse for the Blind, Inc., Dallas, TX

Noun Name: Binder, Awards Certificate.

NSN: 7510-01-056-1927.

NSN: 7510-00-755-7077.

NSN: 7510-00-115-3250.

NSN: 7510-00-482-2994.

Noun Name: Marker, Dry Erase.

NSN: 7520-00-NIB-1428.

NSN: 7520-01-294-3791.

Noun Name: Marker, Tube Type.

NSN: 7520-01-383-7943.

NSN: 7520-01-424-4849.

Noun Name: Marker, Tube Type, Broad Tip.

NSN: 7520-00-973-1059.

NSN: 7520-01-166-0682.

NSN: 7520-00-973-1060.

NSN: 7520-00-460-7598.

NSN: 7520-00-973-1062.

NSN: 7520-00-904-4476.

Noun Name: Mophead, Wet.

NSN: 7920-00-205-0425.

NSN: 7920-00-205-0426.

Nonprofit Agency: NISH Delaware County Chapter, NYSARC, Inc., Walton, NY

Noun Name: Fastener, Paper.

NSN: 7510-00-291-0140.

NSN: 7510-00-235-6068.

NSN: 7510-00-223-6815.

NSN: 7510-00-223-6814.

NSN: 7510-00-161-4284.

NSN: 7510-00-634-2463.

NSN: 7510-01-442-1471.

NSN: 7510-00-205-0806.

Noun Name: Thumbtacks, Maptacks and Pushpins.

NSN: 7510-00-940-0935.

NSN: 7510-00-272-6887.

NSN: 7510-00-272-6886.

Nonprofit Agency: NISH Development Workshop, Inc., Idaho Falls, ID

Noun Name: Dispenser, Tape.

NSN: 7520-00-240-2411.

Noun Name: Flashlight.

NSN: 6230-00-163-1856.

NSN: 6230-00-781-3671.

Nonprofit Agency: NIB East Texas Lighthouse for the Blind, Tyler, TX

Noun Name: Napkin, Paper, Various.

NSN: 8540-00-279-7777.

Noun Name: Napkin, Table, Paper.

NSN: 8540-00-285-7001.

Noun Name: Tissue, Facial.

NSN: 8540-00-793-5425.

NSN: 8540-00-281-8360.

Noun Name: Towel, Paper.

NSN: 7920-01-448-7052.

Noun Name: Towel, Paper, Industrial Wiping.

NSN: 7920-01-448-7053.

Nonprofit Agency: NISH Eastern Carolina Vocational Center, Inc., Greenville, NC

Noun Name: Frame, Picture.

NSN: 7105-01-282-0630.

NSN: 7105-00-903-1843.

NSN: 7105-01-282-0631.

Nonprofit Agency: NIB Ed Lindsey Industries for the Blind, Inc., Nashville, TN

Noun Name: Mophead, Wet.

NSN: 7920-00-205-0425.

NSN: 7920-00-205-0426.

Nonprofit Agency: NIB Envision, Inc., Wichita, KS

Noun Name: Bag, Plastic.

NSN: 8105-01-183-9768.

NSN: 8105-01-195-8730.

NSN: 8105-01-183-9769.

Noun Name: Bag, Plastic, General Purpose.

NSN: 8105-01-150-6256.

Noun Name: Bag, Total Recycled Content.

NSN: 8105-01-386-2410.

NSN: 8105-01-386-2399.

NSN: 8105-01-386-2329.

Noun Name: Liner, General Purpose—High Density.

NSN: 8105-01-517-1365.

NSN: 8105-01-517-1368.

NSN: 8105-01-517-1363.

NSN: 8105-01-517-1345.

Nonprofit Agency: NISH Exceptional Children's Foundation, Los Angeles, CA

Noun Name: File, Work Organizer.

NSN: 7520-00-833-7343.

NSN: 7520-00-286-1722.

NSN: 7520-00-286-1726.

NSN: 7520-01-437-6369.

NSN: 7520-00-286-1724.

NSN: 7520-01-437-6364.

NSN: 7520-01-437-6365.

NSN: 7520-00-286-1723.

Nonprofit Agency: NISH Foothill Workshop for the Handicapped, Inc., Pasadena, CA

Noun Name: Perforator, Paper.

NSN: 7520-00-163-2563.

NSN: 7520-00-139-3942.

Noun Name: Perforator, Paper, Desk.

NSN: 7520-01-431-6251.

NSN: 7520-00-139-4101.

NSN: 7520-00-224-7589.

NSN: 7520-00-263-3425.

NSN: 7520-01-431-6240.

Nonprofit Agency: NIB ForSight Vision, York, PA

Noun Name: Binder, Loose-leaf, Three Ring.

NSN: 7510-00-409-8646.

Nonprofit Agency: NISH Gateway Community Industries, Inc., Kingston, NY

Noun Name: Envelope, Inter-Departmental.

NSN: 7530-01-463-3908.

NSN: 7530-01-463-3909.

NSN: 7530-01-463-3910.

Noun Name: Envelope, Inter-Departmental, Colored.

NSN: 7530-01-498-1089.

NSN: 7530-01-498-1088.

NSN: 7530-01-498-1086.

Nonprofit Agency: NIB Georgia Industries for the Blind, Bainbridge, GA

Noun Name: Binder, Loose-leaf, (Pressboard).

NSN: 7510-00-582-4201.

NSN: 7510-00-281-4313.

Noun Name: Card, Guide, File.

NSN: 7530-00-988-6515.

Noun Name: Folder, Classification, Pressboard.

NSN: 7530-00-NIB-0673.

NSN: 7530-00-NIB-0679.

Noun Name: Folder, File, Pressboard.

NSN: 7530-00-990-8884.

NSN: 7530-00-926-8981.

Noun Name: Folder-Set, File, Pressboard.

NSN: 7530-00-286-8570.

NSN: 7530-00-286-6923.

Noun Name: Mophead, Wet.

NSN: 7920-00-205-0426.

NSN: 7920-00-141-5547.

NSN: 7920-00-205-0425.

Nonprofit Agency: NISH Helena Industries, Inc., Helena, MT

Noun Name: Briefcase.

NSN: 8460-01-352-3064.

NSN: 8460-01-364-9493.

NSN: 8460-01-433-8398.

Nonprofit Agency: NIB Industries for the Blind, Inc., Milwaukee, WI

Noun Name: Ballpoint Pen.

NSN: 7520-01-332-3967.

NSN: 7520-01-449-3740.

NSN: 7520-01-386-1604.

NSN: 7520-01-386-1618.

NSN: 7520-01-332-2833.

NSN: 7520-00-543-7149.

NSN: 7520-00-935-7136.

NSN: 7520-00-935-7135.

Noun Name: Ballpoint Pen and Laser, “Congressional”.

NSN: 7520-01-439-3397.

Noun Name: Broom, Tilt Angle.

NSN: 7920-01-458-8208.

Noun Name: Brush, Dusting.

NSN: 7920-00-178-8315.

Noun Name: Brush, Scrub.

NSN: 7920-00-061-0038.

NSN: 7920-00-240-7174.

Noun Name: Correct-It Roller Applicator & Refill.

NSN: 7510-01-350-1810.

NSN: 7510-01-390-0717.

NSN: 7510-01-338-3317.

Noun Name: Dispenser, Glue Tape & Refill Cartridge.

NSN: 8040-01-441-0175.

Noun Name: Pen, Essential LVX Translucent and refills.

NSN: 7520-01-451-9178.

NSN: 7520-01-451-9179.

Noun Name: Pen, Metal Barrel & Refills.

NSN: 7520-01-445-7230.

NSN: 7520-01-445-7226.

NSN: 7520-01-445-7237.

Noun Name: Pen, Retractable Camouflage.

NSN: 7520-01-457-5400.

Noun Name: Pen, Retractable, Cushion Grip.

NSN: 7520-01-424-4873.

NSN: 7520-01-424-4856.

NSN: 7520-01-424-4857.

NSN: 7520-01-424-4865.

NSN: 7520-01-424-4854.

NSN: 7520-01-424-4876.

Noun Name: Pen, Retractable, Executive, Ergonomic.

NSN: 7520-01-484-5259.

Noun Name: Pen, Rubberized, Retractable with Refills.

NSN: 7520-01-368-7772.

NSN: 7520-01-368-7771.

NSN: 7520-01-368-7773.

NSN: 7520-01-422-0315.

NSN: 7520-01-422-0323.

NSN: 7520-01-352-7311.

NSN: 7520-01-352-7310.

NSN: 7520-01-352-7309.

NSN: 7520-01-422-0314.

Noun Name: Pencil, Fine-Line Writing.

NSN: 7510-00-286-5755.

Noun Name: Pencil, Woodcased.

NSN: 7510-01-451-9176.

Noun Name: Pencil, Writing, Recycled.

NSN: 7510-01-357-8952.

Nonprofit Agency: NIB Industries of the Blind, Inc., Greensboro, NC

Noun Name: Ballpoint Pen.

NSN: 7520-00-543-7149.

NSN: 7520-01-386-1604.

NSN: 7520-01-332-2833.

NSN: 7520-01-449-3740.

NSN: 7520-00-935-7135.

NSN: 7520-00-935-7136.

NSN: 7520-01-332-3967.

NSN: 7520-01-386-1618.

Noun Name: Clipboard File.

NSN: 7520-01-439-3391.

NSN: 7520-01-439-3387.

NSN: 7520-00-281-5918.

Noun Name: Film, Copying, Transparent, Ink Jet Process.

NSN: 7530-01-325-0618.

Noun Name: Mophead, Wet.

NSN: 7920-00-141-5547.

NSN: 7920-00-205-0425.

NSN: 7920-00-205-0426.

Noun Name: Pen, Gel Ink, Aristocrat.

NSN: 7520-00-NIB-1461.

Noun Name: Pen, Retractable, Cushion Grip.

NSN: 7520-01-424-4865.

NSN: 7520-01-424-4876.

NSN: 7520-01-424-4873.

NSN: 7520-01-424-4857.

NSN: 7520-01-424-4856.

NSN: 7520-01-424-4854.

Noun Name: Pen, Retractable, Transparent, Cushion Grip “VISTA”.

NSN: 7520-01-445-7223.

NSN: 7520-01-445-7233.

NSN: 7520-01-484-5271.

NSN: 7520-01-445-7225.

NSN: 7520-01-445-7228.

Noun Name: Pen, Rubberized, Retractable with Refills.

NSN: 7520-01-368-7771.

NSN: 7520-01-352-7311.

NSN: 7520-01-422-0315.

NSN: 7520-01-368-7772.

NSN: 7520-01-352-7309.

NSN: 7520-01-422-0314.

NSN: 7520-01-368-7773.

NSN: 7520-01-352-7310.

NSN: 7520-01-422-0323.

Noun Name: Pen, Vista Gel.

NSN: 7520-01-506-8500.

NSN: 7520-01-506-8502.

Noun Name: Sleeve, Transparency.

NSN: 7510-01-484-0016.

Noun Name: Transparency Film, Xerographic.

NSN: 7530-01-386-2356.

NSN: 7530-01-386-2376.

Nonprofit Agency: NISH Jefferson County Chapter, NYSARC, Watertown, NY

Noun Name: Binder, Loose-leaf.

NSN: 7510-00-782-2664.

NSN: 7510-01-431-6244.

NSN: 7510-01-431-6236.

Nonprofit Agency: NIB L.C. Industries For The Blind, Inc., Durham, NC

Noun Name: Cloth, High Performance.

NSN: 7920-01-482-6042.

Noun Name: Dispenser, Tape.

NSN: 7520-00-240-2417.

Noun Name: Document Protector.

NSN: 7510-01-236-0059.

Noun Name: Double Pocket Presentation Folder.

NSN: 7530-00-NIB-0698.

Noun Name: Envelope, Wallet.

NSN: 7530-00-268-3993.

Noun Name: File Wallet, Expanding.

NSN: 7530-01-483-8889.

Noun Name: Flatware, Plastic, Heavy Duty.

NSN: 7340-00-022-1317.

NSN: 7340-00-022-1316.

NSN: 7340-00-022-1315.

NSN: 7360-01-380-4695.

Noun Name: Folder Pack, Tri-fold.

NSN: 7530-01-484-0001.

Noun Name: Folder, File.

NSN: 7530-00-222-3443.

NSN: 7530-00-281-5939.

NSN: 7530-00-663-0031.

Noun Name: Folder, File, Colored.

NSN: 7530-01-484-0006.

Noun Name: Folder, File, Hanging.

NSN: 7530-01-357-6856.

NSN: 7530-01-364-9501.

NSN: 7530-01-364-9500.

NSN: 7530-01-364-9499.

NSN: 7530-01-364-9498.

NSN: 7530-01-364-9496.

NSN: 7530-01-357-6855.

NSN: 7530-01-364-9497.

Noun Name: Folder, File, Kraft.

NSN: 7530-00-926-8978.

NSN: 7530-00-889-3555.

Noun Name: Folder, File, Manila.

NSN: 7530-01-484-0002.

Noun Name: Folder, File, Pressboard.

NSN: 7530-00-043-1194.

Noun Name: Folder-Set, File, Pressboard.

NSN: 7530-00-286-6923.

Noun Name: Jacket, Filing, Wallet.

NSN: 7530-00-285-2915.

NSN: 7530-00-285-2913.

NSN: 7530-00-285-2914.

Noun Name: Napkin, Paper, Various.

NSN: 8540-00-279-7777.

Noun Name: Napkin, Table, Paper.

NSN: 8540-00-965-4691.

Noun Name: Paper Shredder.

NSN: 7490-01-483-8991.

NSN: 7490-01-483-8984.

NSN: 7490-01-483-8985.

NSN: 7490-01-483-8990.

Noun Name: Paper, Toilet Tissue.

NSN: 8540-01-380-0690.

NSN: 8540-00-530-3770.

Noun Name: Plate, Paper.

NSN: 7350-00-899-3056.

NSN: 7350-00-899-3054.

Noun Name: Portfolio, Double Pocket.

NSN: 7510-00-584-2492.

NSN: 7510-00-584-2491.

NSN: 7510-00-584-2490.

NSN: 7510-01-512-2415.

NSN: 7510-00-584-2489.

NSN: 7510-01-512-2414.

Noun Name: Stand, Calendar Pad.

NSN: 7520-01-483-8994.

Noun Name: Tab, Hanging File Folder.

NSN: 7510-01-375-4510.

NSN: 7510-01-375-0502.

Noun Name: Tissue, Facial.

NSN: 8540-00-793-5425.

NSN: 8540-00-281-8360.

Noun Name: Towel, Paper.

NSN: 8540-00-291-0392.

Noun Name: Towel, Paper, C-Fold.

NSN: 8540-01-494-0909.

Noun Name: Tray, Desk, Plastic.

NSN: 7520-01-094-4307.

Nonprofit Agency: NIB Lighthouse for the Blind of Houston, Houston, TX

Noun Name: Detergent, General Purpose.

NSN: 7930-00-926-5280.

Noun Name: Disinfectant, Detergent.

NSN: 6840-01-342-4143.

Noun Name: Glass Cleaner.

NSN: 7930-01-326-8110.

Nonprofit Agency: NIB Lighthouse for the Blind, St. Louis, MO

Noun Name: Cleaner, Multi-Purpose.

NSN: 7930-01-373-8849

Noun Name: Correction Fluid.

NSN: 7510-01-333-6242.

NSN: 7510-01-020-2806.

Noun Name: Kit, First Aid, General Purpose.

NSN: 6545-00-656-1094.

Noun Name: Office Plus.

NSN: 7930-01-512-8969.

Noun Name: Paper, Tabulating Machine.

NSN: 7530-00-800-0996.

Nonprofit Agency: NIB Lions Services, Inc., Charlotte, NC

Noun Name: Mophead, Wet.

NSN: 7920-00-205-0426.

NSN: 7920-00-205-0425.

Nonprofit Agency: NIB Louisiana Association for the Blind, Shreveport, LA

Noun Name: Card, Index.

NSN: 7530-00-243-9437.

NSN: 7530-00-247-0318.

Noun Name: Index Sheet Set, Looseleaf Binder.

NSN: 7530-00-959-4441.

Noun Name: Pad, Writing Paper.

NSN: 7530-01-447-1355.

NSN: 7530-01-124-5660.

NSN: 7530-01-447-1353.

Noun Name: Pad, Writing Paper, Chlorine-Free.

NSN: 7530-01-516-9627.

NSN: 7530-01-516-9626.

NSN: 7530-01-516-9629.

Noun Name: Paper, Bond & Writing.

NSN: 7530-00-290-0617.

NSN: 7530-00-616-7284.

Noun Name: Paper, Copy, 50% PCW.

NSN: 7530-00-NIB-0644.

Noun Name: Paper, Mimeograph and Duplicating.

NSN: 7530-00-286-6178.

NSN: 7530-00-240-4768.

Noun Name: Paper, Xerographic.

NSN: 7530-01-147-6812.

NSN: 7530-01-148-1766.

NSN: 7530-01-150-0334.

NSN: 7530-01-147-6811.

NSN: 7530-01-085-5225.

NSN: 7530-01-156-4689.

NSN: 7530-01-200-2207.

NSN: 7530-01-398-2652.

NSN: 7530-01-146-3361.

NSN: 7530-01-200-2203.

Nonprofit Agency: NISH MacDonald Training Center, Inc., Tampa, FL

Noun Name: Tube, Mailing and Filing.

NSN: 8110-00-244-7435.

NSN: 8110-01-443-8476.

Nonprofit Agency: NIB Massachusetts Commission for the Blind Ferguson Industries for the Blind, Malden, MA

Noun Name: Mophead, Wet.

NSN: 7920-00-205-0426.

NSN: 7920-00-205-0425.

Nonprofit Agency: NIB MidWest Enterprises for the Blind, Inc., Kalamazoo, MI

Noun Name: Electronic Components.

NSN: 7510-01-484-4563.

NSN: 7420-01-484-4560.

Nonprofit Agency: NIB Mississippi Industries for the Blind, Jackson, MS

Noun Name: Mophead, Wet.

NSN: 7920-00-205-0425.

NSN: 7920-00-205-0426.

Noun Name: Sponge, Cellulose.

NSN: 7920-00-884-1116.

Nonprofit Agency: NISH Montgomery County Chapter, NYSARC, Inc., Amsterdam, NY

Noun Name: Box, Storage, File.

NSN: 8115-01-455-4036.

NSN: 8115-01-455-4038.

Nonprofit Agency: NISH National Center for Employment of the Disabled, El Paso, TX

Noun Name: Box, Shipping.

NSN: 8115-00-117-8249.

Nonprofit Agency: NISH New Dynamics Corporation, Middletown, NY

Noun Name: Plug, Ear, Hearing Protection.

NSN: 6515-00-137-6345.

Nonprofit Agency: NIB New York City Industries for the Blind, Inc., Brooklyn, NY

Noun Name: Binder, Note Pad.

NSN: 7510-01-484-0004.

Noun Name: Brush, Dusting.

NSN: 7920-00-178-8315.

Noun Name: Mophead, Wet.

NSN: 7920-00-141-5547.

NSN: 7920-00-205-0425.

NSN: 7920-00-205-0426.

Nonprofit Agency: NIB North Central Sight Services, Inc., Williamsport, PA

Noun Name: CD/DVD Label Kit and Refills.

NSN: 7530-00-NIB-0660.

NSN: 7530-00-NIB-0688.

Noun Name: Disk, Flexible.

NSN: 7045-01-365-2069.

NSN: 7045-01-442-1631.

Noun Name: Greendisk.

NSN: 7045-01-392-6514.

NSN: 7045-01-470-3590.

Noun Name: Labels, Laser.

NSN: 7530-01-514-4912.

NSN: 7530-01-514-4913.

NSN: 7530-01-514-4911.

NSN: 7530-01-514-4910.

NSN: 7530-01-514-4909.

NSN: 7530-01-514-4907.

NSN: 7530-01-514-4906.

NSN: 7530-01-514-4905.

NSN: 7530-01-514-4904.

NSN: 7530-01-514-4903.

Nonprofit Agency: NISH Northeastern Michigan Rehabilitation and Opportunity Center (NEMROC), Alpena, MI

Noun Name: Mat, Floor.

NSN: 7220-01-305-3062.

NSN: 7220-00-457-6054.

Nonprofit Agency: NISH Occupational Development Center, Inc., Thief River Falls, MN

Noun Name: File, Combination Desk.

NSN: 7520-01-452-1563.

NSN: 7520-01-452-1564.

Noun Name: File, Horizontal Desk.

NSN: 7520-01-457-0726.

NSN: 7520-00-728-5761.

NSN: 7520-01-457-0719.

NSN: 7520-01-457-0721.

NSN: 7520-01-457-0723.

NSN: 7520-01-457-0725.

NSN: 7520-01-457-0724.

Noun Name: File, Vertical Desk.

NSN: 7520-01-452-1562.

NSN: 7520-01-452-1558.

Nonprofit Agency: NISH Occupations, Inc., Middletown, NY

Noun Name: Stapler.

NSN: 7520-00-243-1780.

NSN: 7520-00-240-5727.

Noun Name: Stapler, Standard/Light-Duty.

NSN: 7520-00-281-5895.

NSN: 7520-00-139-6170.

NSN: 7520-01-467-9433.

NSN: 7520-01-467-9434.

Nonprofit Agency: NIB Outlook-Nebraska, Incorporated, Fremont, NE

Noun Name: Paper, Toilet Tissue.

NSN: 8540-00-530-3770.

NSN: 8540-01-380-0690.

Nonprofit Agency: NIB Raleigh Lions Clinic for the Blind, Inc., Raleigh, NC

Noun Name: Folder, File.

NSN: 7530-00-663-0031.

NSN: 7530-00-281-5939.

Nonprofit Agency: NIB Rose Resnick Lighthouse for the Blind and Visually Impaired, San Francisco, CA

Noun Name: Mophead, Wet.

NSN: 7920-00-205-0425.

NSN: 7920-00-205-0426.

Nonprofit Agency: NIB San Antonio Lighthouse for the Blind, San Antonio, TX

Noun Name: Clip System, Paper.

NSN: 7510-01-317-4220.

NSN: 7510-01-392-6512.

NSN: 7510-01-317-4219.

NSN: 7510-01-317-4228.

NSN: 7510-01-392-6513.

NSN: 7510-01-392-6964.

NSN: 7510-01-392-6965.

Noun Name: Free Ink Highlighter, Fluorescent.

NSN: 7520-01-461-2667.

NSN: 7520-01-461-3779.

NSN: 7520-01-461-2662.

Noun Name: Illuminator/Corrector Stx and Refills.

NSN: 7510-01-390-0704.

NSN: 7520-01-386-2407.

Noun Name: Lead Pencil.

NSN: 7510-01-317-6421.

NSN: 7510-01-317-6422.

Noun Name: Pen, Free Ink, Rollerball, Needle Point.

NSN: 7520-01-506-8501.

NSN: 7520-01-506-8499.

NSN: 7520-01-506-8498.

NSN: 7520-01-506-8495.

NSN: 7520-01-506-8494.

NSN: 7520-01-506-8497.

Noun Name: Pen, Rollerball, Executive and Refill.

NSN: 7520-01-424-4861.

Noun Name: Pen, Rollerball, Free Ink.

NSN: 7520-01-494-0907.

NSN: 7520-01-461-2660.

NSN: 7520-01-461-2665.

NSN: 7520-01-494-0908.

NSN: 7520-01-461-2663.

NSN: 7520-01-461-2664.

Noun Name: Pencil, Mechanical.

NSN: 7520-01-132-4996.

NSN: 7520-01-385-7362.

NSN: 7520-01-386-1581.

NSN: 7520-01-347-9581.

NSN: 7520-00-590-1878.

NSN: 7520-01-317-6428.

NSN: 7520-01-424-4864.

NSN: 7520-01-424-4874.

NSN: 7520-01-317-6140.

NSN: 7520-00-161-5664.

Noun Name: Pencil, Mechanical, Dual Action w/Cushion Grip.

NSN: 7520-01-451-2268.

NSN: 7520-01-451-2267.

Noun Name: Pencil, Mechanical, Ergonomic.

NSN: 7520-01-451-2270.

NSN: 7520-01-451-2271.

Nonprofit Agency: NIB Somerset County Blind Center, Inc., Somerset, PA

Noun Name: Binder, Loose-leaf, Presentation.

NSN: 7510-00-582-5398.

Noun Name: Folder, File.

NSN: 7530-00-222-3443.

Nonprofit Agency: NIB South Texas Lighthouse for the Blind, Corpus Christi, TX

Noun Name: Binder, Loose-leaf.

NSN: 7510-01-368-3486.

NSN: 7510-01-510-7492.

NSN: 7510-01-511-4322.

NSN: 7510-01-412-6338.

NSN: 7510-01-278-4129.

NSN: 7510-01-510-4871.

NSN: 7510-01-510-4869.

NSN: 7510-01-510-4866.

NSN: 7510-01-510-4859.

NSN: 7510-01-510-4858.

NSN: 7510-01-510-4865.

NSN: 7510-01-278-4131.

NSN: 7510-01-510-4873.

NSN: 7510-01-203-4708.

Noun Name: Binder, Loose-leaf, 3-Ring.

NSN: 7510-01-484-1755.

Noun Name: Binder, Poly.

NSN: 7510-01-484-1757.

NSN: 7510-01-484-1763.

Noun Name: Binder, Slant D-Ring.

NSN: 7510-01-417-1881.

NSN: 7510-01-417-1882.

NSN: 7510-01-417-1878.

NSN: 7510-01-417-1884.

NSN: 7510-01-420-8078.

NSN: 7510-01-417-1879.

NSN: 7510-01-385-6711.

NSN: 7510-01-384-8788.

NSN: 7510-01-384-8673.

NSN: 7510-01-368-3487.

NSN: 7510-01-368-3485.

NSN: 7510-01-384-8786.

Noun Name: Mouse Pad, Computer.

NSN: 7045-01-368-4809.

Nonprofit Agency: NIB Susquehanna Association for the Blind and Visually Impaired, Lancaster, PA

Noun Name: Deodorant, General Purpose.

NSN: 6840-00-664-6610.

Noun Name: SKILCRAFT SAVVY Non-Acid Bathroom Cleaner.

NSN: 7930-01-517-2727.

Noun Name: SKILCRAFT SAVVY Unreal Stop Remover.

NSN: 7930-01-517-6194.

Noun Name: Urinal Screen Kit.

NSN: 6840-01-451-9189.

Nonprofit Agency: NIB Tarrant County Association for the Blind, Fort Worth, TX

Noun Name: Paper, Tabulating Machine.

NSN: 7530-00-NIB-0321.

NSN: 7530-00-800-0996.

Noun Name: Rosewood Deluxe Office Start-Up Kit.

NSN: 7520-00-NIB-1289.

Nonprofit Agency: NISH The Arc of Bergen and Passaic Counties, Inc., Hackensack, NJ

Noun Name: Staple Remover.

NSN: 7520-00-162-6177.

Nonprofit Agency: NIB The Arkansas Lighthouse for the Blind, Little Rock, AR

Noun Name: Book, Memorandum.

NSN: 7530-00-286-6952.

Noun Name: Notebook, Steno, Rainbow Pack.

NSN: 7530-01-454-5702.

Noun Name: Notebook, Stenographer's.

NSN: 7530-00-223-7939.

Noun Name: Pad, Executive Message Recording.

NSN: 7510-01-357-6830.

NSN: 7510-01-357-6829.

Noun Name: Pad, Mini Memo.

NSN: 7530-01-454-7392.

Nonprofit Agency: NIB The Chicago Lighthouse for People Who Are Blind or Visually Impaired, Chicago, IL

Noun Name: Clock, Atomic, Standard, Thermometer.

NSN: 6645-01-491-9814.

Noun Name: Clock, Wall.

NSN: 6645-01-421-6904.

NSN: 6645-01-389-7944.

NSN: 6645-01-342-8199.

NSN: 6645-01-046-8849.

NSN: 6645-01-046-8848.

NSN: 6645-01-389-7958.

Noun Name: Slimline Workstation Clocks.

NSN: 6645-01-516-9624.

Nonprofit Agency: NIB The Clovernook Center for the Blind, Cincinnati, OH

Noun Name: Cup, Disposable, Paper.

NSN: 7350-01-359-9524.

Noun Name: Folder, Classification.

NSN: 7530-00-NIB-0549.

NSN: 7530-01-523-4594.

NSN: 7530-00-NIB-0551.

Noun Name: Folder, File, Pressboard.

NSN: 7530-00-990-8884.

Nonprofit Agency: NISH The Easter Seal Society of Western Pennsylvania, Pittsburgh, PA

Noun Name: Executive/Personal Time Management System.

NSN: 7530-01-517-5963.

NSN: 7510-01-450-5422.

NSN: 7510-01-517-5966.

NSN: 7530-01-450-5412.

NSN: 7510-01-517-5936.

Noun Name: Index Sheet Set, Looseleaf Binder.

NSN: 7530-00-160-8477.

Noun Name: Pad, Desk, Paperboard.

NSN: 7520-00-224-7238.

Nonprofit Agency: NIB The Lighthouse f/t Blind in New Orleans, New Orleans, LA

Noun Name: Cup, Paper, Disposable, Hot.

NSN: 7350-00-162-3006.

Noun Name: Mophead, Wet.

NSN: 7920-00-205-0426.

NSN: 7920-00-205-0425.

NSN: 7920-00-141-5547.

Noun Name: Plate, Paper.

NSN: 7350-01-263-6700.

Noun Name: Refillable Tape Dispenser with Tape.

NSN: 7520-01-516-7576.

NSN: 7520-01-516-7575.

Noun Name: Towel, Paper.

NSN: 8540-01-494-0911.

Nonprofit Agency: NIB The Lighthouse for the Blind, Inc. (Seattle Lighthouse), Seattle, WA

Noun Name: Binder, Note Pad.

NSN: 7510-00-286-6954.

Noun Name: Dry Erase Marker Board.

NSN: 7520-01-484-1756.

Noun Name: Dry Erase Marker Board “Cubie”.

NSN: 7520-01-454-5704.

Noun Name: Easel, Display & Training.

NSN: 7520-01-424-4867.

Noun Name: Easel, Tripod, Display.

NSN: 7520-01-456-7876.

Noun Name: Easel, Wallboard, Cork.

NSN: 7195-01-484-0005.

Noun Name: Easel, Wallboard, Fabric.

NSN: 7195-01-484-0017.

Noun Name: Easel, Wallboard, In/Out.

NSN: 7520-01-484-5261.

Noun Name: Easel, Wallboard, Magnetic.

NSN: 7520-00-NIB-1369.

Noun Name: Easel, Wallboard, Monthly Planner.

NSN: 7520-01-484-5263.

Noun Name: Folder, File, Hanging.

NSN: 7530-01-357-6856.

NSN: 7530-01-364-9496.

NSN: 7530-01-364-9497.

NSN: 7530-01-357-6855.

NSN: 7530-01-364-9498.

NSN: 7530-01-364-9501.

NSN: 7530-01-364-9500.

NSN: 7530-01-364-9499.

Noun Name: Paper Cutter, Rotary Precision.

NSN: 7520-01-483-8902.

Noun Name: Stamp Kit, Tile Stamp.

NSN: 7520-01-484-0014.

Noun Name: Trimmer, Paper.

NSN: 7520-00-163-2568.

NSN: 7520-00-224-7620.

NSN: 7520-00-634-4675.

Nonprofit Agency: NIB Travis Association for the Blind, Austin, TX

Noun Name: PURELL/SKILCRAFT Instant Hand Sanitizer.

NSN: 8520-01-522-3887.

NSN: 8520-01-522-0835.

NSN: 8520-01-522-0828.

Noun Name: PURELL/SKILCRAFT Wall Dispenser.

NSN: 4510-01-521-9870.

Nonprofit Agency: NIB West Texas Lighthouse for the Blind, San Angelo, TX

Noun Name: Ballpoint Pen/Highlighter, “Rite-N-Lite”.

NSN: 7520-01-484-0020.

Noun Name: Marker, Tube-Type, “Line-Liter”.

NSN: 7520-01-451-2272.

Noun Name: Pen, Ballpoint, Pushcap w/Refills.

NSN: 7520-01-451-1065.

Noun Name: Pen, Ballpoint, Stick Type, Recycled.

NSN: 7520-01-455-7228.

Nonprofit Agency: NIB Winston-Salem Industries for the Blind, Winston-Salem, NC

Noun Name: Computer Screen (CRT) Wipes.

NSN: 7930-01-454-1138.

Noun Name: Highlighter, Fluorescent, 5-Pack.

NSN: 7520-01-463-6556.

Noun Name: Highlighter, Fluorescent, Flat.

NSN: 7520-00-NIB-1620.

Noun Name: Highlighters, Free-Ink, Flat.

NSN: 7520-00-NIB-1630.

Noun Name: Marker, Lumocolor.

NSN: 7520-01-392-5296.

NSN: 7520-00-422-5769.

NSN: 7520-01-507-6958.

NSN: 7520-01-392-5295.

Noun Name: Marker, Tube Type, Fine Tip.

NSN: 7520-00-904-1265.

NSN: 7520-00-904-1268.

NSN: 7520-00-904-1266.

Noun Name: Markers, Liquid Impression.

NSN: 7520-01-519-4365.

NSN: 7520-01-519-4364.

Noun Name: Markers, Permanent Impression.

NSN: 7520-01-519-4380.

NSN: 7520-01-519-4372.

NSN: 7520-01-520-3153.

NSN: 7520-01-520-3888.

Noun Name: Phone Wipes, Sanitary.

NSN: 7930-01-454-1139.

Noun Name: Wipes, White Board.

NSN: 7930-01-454-1159.

Nonprofit Agency: NIB Wiscraft Inc.—Wisconsin Enterprises for the Blind, Milwaukee, WI

Noun Name: C Shell CD Cases.

NSN: 7045-00-NIB-0181.

NSN: 7045-00-NIB-0189.

Noun Name: CD Cases, Slim.

NSN: 7045-00-NIB-0180.

NSN: 7045-00-NIB-0179.

Noun Name: Computer Accessories.

NSN: 7045-01-483-7837.

NSN: 7045-01-483-7840.

Noun Name: Inkjet Media—Small Format.

NSN: 7530-01-515-7899.

Nonprofit Agency: NISH Work Services Corporation, Wichita Falls, TX

Noun Name: Clip, Paper.

NSN: 7510-01-467-6738.

NSN: 7510-00-161-4292.

2. Products that are now on the Procurement List in a more narrow or limited scope (B List), and are being proposed for the 2007 A List:

Nonprofit Agency: NIB Alabama Industries for the Blind, Talladega, AL

Noun Name: Brush, Sanitary.

NSN: 7920-00-141-5450.

Noun Name: Mop, Wet.

NSN: 7920-00-224-8726.

Nonprofit Agency: NIB Alphapointe Association for the Blind, Kansas City, MO

Noun Name: Ballpoint Pen, Stick, Rubberized Barrel.

NSN: 7520-01-422-0312.

NSN: 7520-01-422-0313.

NSN: 7520-01-422-0320.

NSN: 7520-01-422-0318.

Nonprofit Agency: NIB Association for the Blind & Visually Impaired & Goodwill Industries of Greater Rochester, Rochester, NY

Noun Name: Pad, Writing Paper (Repositionable) Neon Colors.

NSN: 7530-01-393-0103.

Noun Name: Pad, Writing Paper (Repositionable) Yellow Color.

NSN: 7530-01-286-5121.

Nonprofit Agency: NIB Association for Vision Rehabilitation and Employment, Inc., Binghamton, NY

Noun Name: Paper, Tabulating Machine, Carbonless.

NSN: 7530-00-144-9601.

NSN: 7530-00-144-9602.

NSN: 7530-00-185-6751.

NSN: 7530-00-144-9600.

Nonprofit Agency: NIB Blind Industries & Services of Maryland, Baltimore, MD

Noun Name: Pad, Message, “While You Were Out”.

NSN: 7530-01-501-2688.

Nonprofit Agency: NISH Charleston Vocational Rehabilitation Center, Charleston Heights, SC

Noun Name: Tape, Measuring.

NSN: 5210-01-139-7444.

NSN: 5210-00-182-4797.

NSN: 5210-00-150-2920.

Nonprofit Agency: NIB Cincinnati Association for the Blind, Cincinnati, OH

Noun Name: Tape, Pressure Sensitive.

NSN: 7510-00-266-6707.

NSN: 7510-00-266-6710.

Nonprofit Agency: NIB Dallas Lighthouse for the Blind, Inc., Dallas, TX

Noun Name: Award Certificate Binder.

NSN: 7510-01-390-0712.

Noun Name: Eraser, Whiteboard.

NSN: 7510-01-316-6213.

Noun Name: Kit, Dry Erase Marker (12).

NSN: 7520-01-365-6126.

Noun Name: Kit, Dry Erase Marker (6).

NSN: 7520-01-352-7321.

Noun Name: Markers, Dry Erase, Chisel Tip.

NSN: 7520-01-186-3605.

Nonprofit Agency: NIB Ed Lindsey Industries for the Blind, Inc., Nashville, TN

Noun Name: Mop, Wet.

NSN: 7920-00-224-8726.

Nonprofit Agency: NIB Envision, Inc., Wichita, KS

Noun Name: Bag, Total Recycled Content.

NSN: 8105-01-386-2323.

Noun Name: Bag, Trash, Coreless Roll.

NSN: 8105-01-517-1364.

Noun Name: Liner, General Purpose—High Density.

NSN: 8105-01-517-1349.

Nonprofit Agency: NIB Georgia Industries for the Blind, Bainbridge, GA

Noun Name: Handle, Mop.

NSN: 7920-00-267-1218.

Nonprofit Agency: NIB Industries for the Blind, Inc., Milwaukee, WI

Noun Name: Americana Pen.

NSN: 7520-01-529-1850.

Noun Name: Correct-It Roller Applicator & Refill.

NSN: 7510-01-511-7933.

NSN: 7510-01-511-7930.

NSN: 7520-01-504-8939.

Noun Name: Pen, Ballpoint, “Liberty Writer”.

NSN: 7520-01-454-7999.

NSN: 7520-01-454-7998.

Noun Name: Pen, Ballpoint, Stealth Writer.

NSN: 7520-01-439-3407.

NSN: 7520-01-439-3408.

Noun Name: Pen, Essential LVX Translucent and refills.

NSN: 7520-01-451-9181.

NSN: 7520-01-451-9183.

Noun Name: Pen, Retractable, Executive, Ergonomic.

NSN: 7520-01-484-5256.

NSN: 7520-01-484-5254.

NSN: 7520-01-484-5255.

Nonprofit Agency: NIB Industries of the Blind, Inc., Greensboro, NC

Noun Name: Clipboard File.

NSN: 7520-00-254-4610.

Noun Name: Handle, Mop.

NSN: 7920-00-267-1218.

Nonprofit Agency: NIB L.C. Industries For The Blind, Inc., Durham, NC

Noun Name: Dustpan, Short Handle.

NSN: 7290-00-616-0109.

Noun Name: Folder, File, Hanging.

NSN: 7530-01-316-1639.

NSN: 7530-01-357-6854.

Noun Name: Tray, Desk, Plastic.

NSN: 7520-01-094-4309.

Nonprofit Agency: NIB Lighthouse for the Blind, St. Louis, MO

Noun Name: Mop, Wet.

NSN: 7920-00-224-8726.

Nonprofit Agency: NIB Louisiana Association for the Blind, Shreveport, LA

Noun Name: Paper, Copy, 50% PCW.

NSN: 7530-00-NIB-0647.

NSN: 7530-00-NIB-0646.

NSN: 7530-00-NIB-0645.

Noun Name: Paper, Xerographic (Chlorine Free).

NSN: 7530-01-503-8453.

NSN: 7530-01-503-8445.

NSN: 7530-01-503-8449.

Nonprofit Agency: NIB MidWest Enterprises for the Blind, Inc., Kalamazoo, MI

Noun Name: Electronic Components.

NSN: 7420-01-484-4580.

NSN: 7420-01-484-4559.

Nonprofit Agency: NIB New York City Industries for the Blind, Inc., Brooklyn, NY

Noun Name: Brush, Sanitary.

NSN: 7920-00-141-5450.

Noun Name: Dustpan, Handle.

NSN: 7290-01-460-6663.

Nonprofit Agency: NIB North Central Sight Services, Inc., Williamsport, PA

Noun Name: Disk, Flexible.

NSN: 7045-01-283-4362.

Noun Name: Laser Labels.

NSN: 7530-01-336-0540.

NSN: 7530-01-349-4463.

NSN: 7530-01-302-5504.

NSN: 7530-01-289-8191.

NSN: 7530-01-289-8190.

NSN: 7530-01-349-4464.

Nonprofit Agency: NISH Northeastern Michigan Rehabilitation and Opportunity Center (NEMROC), Alpena, MI

Noun Name: Mat, Floor.

NSN: 7220-00-151-6518.

NSN: 7220-00-457-6046.

Nonprofit Agency: NIB Outlook-Nebraska, Incorporated, Fremont, NE

Noun Name: Paper, Toilet Tissue, 48 Ct., 2-ply.

NSN: 8540-00-NIB-0043.

Nonprofit Agency: NIB South Texas Lighthouse for the Blind, Corpus Christi, TX

Noun Name: 1½″ Round Ring Vinyl Clad Binder.

NSN: 7510-01-519-4382.

NSN: 7510-01-519-4381.

Noun Name: Binder, Loose-leaf (5273).

NSN: 7510-01-283-5273.

Noun Name: Mouse Pad, Computer.

NSN: 7045-01-368-4810.

Noun Name: Tabs, Index.

NSN: 7530-01-368-3489.

NSN: 7530-01-368-3493

NSN: 7530-01-368-3492.

NSN: 7530-01-368-3490.

NSN: 7530-01-368-3491.

Nonprofit Agency: NIB The Arkansas Lighthouse for the Blind, Little Rock, AR

Noun Name: Steno Pad Holder, Vinyl.

NSN: 7510-01-454-7388.

Nonprofit Agency: NIB The Lighthouse for the Blind in New Orleans, New Orleans, LA

Noun Name: Mop, Wet.

NSN: 7920-00-224-8726.

Noun Name: Tape Refill w/American Flag on the core.

NSN: 7520-00-NIB-1579.

Nonprofit Agency: NIB The Lighthouse for the Blind, Inc. (Seattle Lighthouse), Seattle, WA

Noun Name: Easel, Wallboard, Magnetic. NSN: 7520-00-NIB-1368.

NSN: 7520-00-NIB-1371.

Noun Name: Folder, File, Hanging.

NSN: 7530-01-357-6854.

Noun Name: Four Month Planner.

NSN: 7520-00-NIB-1689.

Nonprofit Agency: NIB Travis Association for the Blind, Austin, TX

Noun Name: GOJO/SKILCRAFT Lotion Hand Soap.

NSN: 8520-01-522-0838.

NSN: 8520-01-522-0839.

Noun Name: GOJO/SKILCRAFT Wall Dispenser.

NSN: 4510-01-521-9872.

Noun Name: Holder, Key and Credit Card.

NSN: 7510-01-445-9348.

Nonprofit Agency: NIB Winston-Salem Industries for the Blind, Winston-Salem, NC

Noun Name: Flat Highlighters, Pink.

NSN: 7520-01-351-9146.

Noun Name: Highlighter, Fluorescent, Flat.

NSN: 7520-01-238-1728.

Noun Name: Highlighters, Fluorescent Set.

NSN: 7520-01-201-7791.

Noun Name: Highlighters, Free-Ink, Flat.

NSN: 7520-00-NIB-1631.

NSN: 7520-00-NIB-1625

Noun Name: Marker, Lumocolor.

NSN: 7520-01-507-6972.

NSN: 7520-01-507-6963.

NSN: 7520-01-507-6969.

NSN: 7520-01-507-6974.

Noun Name: Markers, Liquid Impression.

NSN: 7520-01-519-4373.

NSN: 7520-01-519-4366.

NSN: 7520-01-519-4367.

NSN: 7520-01-519-4360.

NSN: 7520-01-519-4369.

NSN: 7520-01-519-4375.

Noun Name: Markers, Permanent Impression.

NSN: 7520-01-519-4378.

NSN: 7520-01-520-3887.

NSN: 7520-01-520-3889.

NSN: 7520-01-519-4374.

Noun Name: Paper or Stationer's Shears.

NSN: 5110-00-161-6912.

Noun Name: Straight Trimmer's Shears.

NSN: 5110-00-293-9199.

Nonprofit Agency: NIB Wiscraft Inc.—Wisconsin Enterprises for the Blind, Milwaukee, WI

Noun Name: Inkjet Media—Small Format.

NSN: 7530-01-515-7471.

NSN: 7530-01-515-7902.

NSN: 7530-01-515-7901.

NSN: 7530-01-515-7900.

3. Products that are not currently on the Procurement List but are being proposed for addition and, if added, would be placed on the 2007 A List.

Nonprofit Agency: NIB Alabama Industries for the Blind, Talladega, AL

Noun Name: Inkjet Cartridge.

NSN: 7510-01-433-4279.

NSN: 7510-00-NIB-0735.

NSN: 7510-00-NIB-0739.

NSN: 7510-00-NIB-0741.

NSN: 7510-00-NIB-0742.

NSN: 7510-00-NIB-0743.

NSN: 7510-00-NIB-0744.

NSN: 7510-00-NIB-0745.

NSN: 7510-00-NIB-0746.

NSN: 7510-00-NIB-0749.

NSN: 7510-00-NIB-0751.

NSN: 7510-00-NIB-0752.

NSN: 7045-01-432-4838.

NSN: 7510-01-422-7532.

NSN: 7510-01-441-4519.

NSN: 7510-01-457-1144.

NSN: 7510-01-494-1171.

NSN: 7510-01-494-1176.

NSN: 7510-01-494-1177.

NSN: 7510-01-494-1186.

NSN: 7510-01-507-3918.

NSN: 7510-01-507-3919.

NSN: 7510-01-507-3920.

NSN: 7510-01-385-3698.

Nonprofit Agency: NIB Industries of the Blind, Inc., Greensboro, NC

Noun Name: Pen, Retractable, Antimicrobial, EconoGard.

NSN: 7520-00-NIB-1764.

NSN: 7520-00-NIB-1741.

NSN: 7520-00-NIB-1742.

NSN: 7520-00-NIB-1763.

Nonprofit Agency: NIB West Texas Lighthouse for the Blind, San Angelo, TX

Noun Name: Retractable ID Badge Holder.

NSN: 8455-00-NIB-0012.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Patrick Rowe,
Deputy Executive Director.

[FR Doc. E6-6395 Filed 4-27-06; 8:45 am]

BILLING CODE 6353-01-P